DEPARTMENT OF ENERGY

Federal Energy Regulatory Commission

[Docket Nos. EG23-21-000,EG23-22-000,EG23-23-000,EG23-24-000,EG23-25-000,EG23-26-000,EG23-27-000,EG23-28-000,FC23-1-000]

Sandy Ridge Wind 2, LLC; Sandy Ridge Transco Interconnection, LLC; AES Kuihelani Solar, LLC; Oak Solar, LLC; Chaves County Solar II, LLC; Yellow Pine Solar Interconnect, LLC; Myrtle Solar, LLC; Prairie Switch Wind, LLC; Windpark Hoher Berg Dornstedt GmbH & Co. KG; Notice of Effectiveness of Exempt Wholesale Generator and Foreign Utility Company Status

Take notice that during the month of January 2023, the status of the above-captioned entities as Exempt Wholesale Generators or Foreign Utility Companies became effective by operation of the Commission's regulations. 18 CFR 366.7(a) (2021).

Dated: February 8, 2023.
Debbie-Anne A. Reese,
Deputy Secretary.

[FR Doc. 2023-03100 Filed 2-13-23; 8:45 am]

BILLING CODE 6717-01-P